COUNCIL OF THE INSPECTORS GENERAL ON INTEGRITY AND EFFICIENCY

Privacy Act of 1974; System of Records

AGENCY: Council of the Inspectors General on Integrity and Efficiency (CIGIE).

ACTION: Notice of a new system of records.

SUMMARY: CIGIE proposes to establish a system of records that is subject to the Privacy Act of 1974. Pursuant to Public Law 116-136, CIGIE proposes this system of records in furtherance of the statutory mandate of CIGIE's Pandemic Response Accountability Committee (PRAC) to promote transparency and conduct oversight of the funds disseminated per the Coronavirus Aid, Relief, and Economic Security Act (CARES Act); the Coronavirus Preparedness and Response Supplemental Appropriations Act of 2020; the Families First Coronavirus Response Act; and any other act primarily making appropriations for Coronavirus response and related activities.

DATES: This proposal will be effective without further notice on February 26, 2021 unless comments are received that would result in a contrary determination.

ADDRESSES: Submit comments identified by “CIGIE-5” by any of the following methods:

1. Federal Rulemaking Portal: http://www.regulations.gov.

Submit comments via the Federal eRulemaking portal by searching for CIGIE-5. Select the link “Comment Now” that corresponds with “CIGIE-5.” Follow the instructions provided on the screen. Please include your name, company name (if any), and “CIGIE-5” on your attached document.

2. Mail: Council of Inspectors General on Integrity and Efficiency, 1717 H Street NW, Suite 825, Washington, DC 20006. ATTN: Virginia Grebasch/CIGIE-5, Notice of New System of Records.

3. Email: comments@cigie.gov.

FOR FURTHER INFORMATION CONTACT: Virginia Grebasch, Senior Counsel, Pandemic Response Accountability Committee, Council of the Inspectors General on Integrity and Efficiency, (202) 292-2600 or comments@cigie.gov.

SUPPLEMENTARY INFORMATION: In 2008, Congress established CIGIE as an independent entity within the executive branch in order to address integrity, economy, and effectiveness issues that transcend individual Government agencies; and increase the professionalism and effectiveness of personnel by developing policies, standards, and approaches to aid in the establishment of a well-trained and highly skilled workforce in the offices of the Inspector General. CIGIE's membership is comprised of all Inspectors General whose offices are established under the Inspector General Act of 1978, as amended, 5 U.S.C. app (IG Act), as well as the Controller of the Office of Federal Financial Management, a designated official of the Federal Bureau of Investigation (FBI), the Director of the Office of Government Ethics, the Special Counsel of the Office of Special Counsel, the Deputy Director of the Office of Personnel Management, the Deputy Director for Management of the Office of Management and Budget (OMB), and the Inspectors General of the Office of the Director of National Intelligence, Central Intelligence Agency, Library of Congress, Capitol Police, Government Publishing Office, Government Accountability Office, and the Architect of the Capitol. The Deputy Director for Management of OMB serves as the Executive Chairperson of CIGIE.

Section 15010 of Public Law 116-136, established the PRAC as a committee within CIGIE. The mission of the PRAC is to promote transparency and conduct and support oversight to: (1) Prevent and detect fraud, waste, abuse, and mismanagement of covered funds; and (2) mitigate major risks that cut across programs and agencies with respect to covered funds. The term “covered funds” means any funds, including but not limited to loans, that are made available in any form to any non-Federal entity, not including an individual, under: The CARES Act; the Coronavirus Preparedness and Response Supplemental Appropriations Act of 2020; the Families First Coronavirus Response Act; or any other act primarily making appropriations for the Federal Government's Coronavirus response and related activities.

The new system of records described in this notice, the PRAC Data Warehouse System (CIGIE-5), will enable CIGIE to carry out its responsibilities to promote transparency and conduct oversight of covered funds. In accordance with 5 U.S.C. 552a(r), CIGIE has provided a report of this new system of records to OMB and to Congress. The new system of records reads as follows:

SYSTEM NAME AND NUMBER:

PRAC Data Warehouse System (PDWS)—CIGIE-5.

SECURITY CLASSIFICATION:

Unclassified.

SYSTEM LOCATION:

The location of paper records contained within the PDWS is the headquarters of the Council of the Inspectors General on Integrity and Efficiency (CIGIE), 1717 H Street NW, Suite 825, Washington, DC 20006. Records maintained in electronic form are principally located in contractor-hosted data centers in the United States. Contact the System Manager identified below for additional information.

SYSTEM MANAGER(S):

Executive Director, Pandemic Response Accountability Committee, Council of the Inspectors General on Integrity and Efficiency, 1717 H Street NW, Suite 825, Washington, DC 20006, (202) 292-2600, cigie.information@cigie.gov.

AUTHORITY FOR MAINTENANCE OF THE SYSTEM:

Section 11 of the Inspector General Act of 1978, as amended, 5 U.S.C. app (IG Act); 5 U.S.C. 301; 44 U.S.C. 3101; Public Law 116-136; Public Law 116-123; and Public Law 116-127.

PURPOSE(S) OF THE SYSTEM:

To carry out the PRAC's responsibilities to promote transparency and conduct oversight of any funds, including but not limited to loans, that are made available in any form to any non-Federal entity, not including an individual, under: Public Law 116-136; Public Law 116-123; and Public Law 116-127; or any other act primarily making appropriations for Coronavirus response and related activities (Coronavirus Funds). The term “Coronavirus response” means the Federal Government's response to the nationwide public health emergency declared by the Secretary of Health and Human Services, retroactive to January 27, 2020, pursuant to 42 U.S.C. 247d as a result of confirmed cases of the novel Coronavirus, COVID-19, in the United States (Coronavirus Response).

CATEGORIES OF INDIVIDUALS COVERED BY THE SYSTEM:

This system contains records on individuals acting in a personal capacity who relate to PRAC efforts undertaken in support of its mission to promote transparency and conduct and support oversight of Coronavirus Funds and the Coronavirus Response to prevent and detect fraud, waste, abuse, and mismanagement and mitigate major risks that cut across programs and agencies. Individuals include but are not limited to those who have applied for, sought, or received Federal funds. These records are comingled with information concerning individuals in their entrepreneurial/sole-proprietor capacity; however, this information is not subject to the Privacy Act.

CATEGORIES OF RECORDS IN THE SYSTEM:

The system maintains records that contribute to the transparency of Coronavirus Funds and the Coronavirus Response and effective oversight of fraud, waste, abuse, and mismanagement and mitigation of major risks that cut across programs and agencies related to Coronavirus Funds and the Coronavirus Response. These records may include, but are not limited to, records concerning: Coronavirus Funds and other Federal funding; the Coronavirus Response; individuals in their personal capacity or individuals who are employees or representatives of businesses, corporations, tribal governments, not-for-profit organizations, or other organizations that have applied for, sought, or received Coronavirus Funds or have been involved in any capacity in the Coronavirus Response. Such records may include, but are not limited to these individuals' home addresses, telephone numbers, social security numbers or tax identifications numbers, company business addresses, business financial information and records, bank account information, payroll records, personal contact information, business affiliations, and employment history.

RECORD SOURCE CATEGORIES:

Publicly and/or commercially available data sets and other source material; Federal agencies; and individuals and entities, including states and local jurisdictions, tribal governments, businesses, corporations, and other organizations, that have applied for, sought, or received Coronavirus Funds or other Federal funds or have been involved in any capacity in the Coronavirus Response.

ROUTINE USES OF RECORDS MAINTAINED IN THE SYSTEM, INCLUDING CATEGORIES OF USERS AND PURPOSES OF SUCH USES:

In addition to those disclosures generally permitted under 5 U.S.C. 552a(b), all or portions of the records or information contained in this system may specifically be disclosed outside of CIGIE as a routine use pursuant to 5 U.S.C. 552a(b)(3) as follows:

A. To a Member of Congress in response to an inquiry from that Member made at the request of the individual. In such cases, however, the Member's right to a record is no greater than that of the individual.

B. If the disclosure of certain records to the Department of Justice (DOJ) is relevant and necessary to litigation, CIGIE may disclose those records to the DOJ. CIGIE may make such a disclosure if one of the following parties is involved in the litigation or has an interest in the litigation:

1. CIGIE or any component thereof; or

2. Any employee or former employee of CIGIE in his or her official capacity; or

3. Any employee or former employee of CIGIE in his or her individual capacity when the DOJ has agreed to represent the employee; or

4. The United States, if CIGIE determines that litigation is likely to affect CIGIE or any of its components.

C. If disclosure of certain records to a court, adjudicative body before which CIGIE is authorized to appear, individual or entity designated by CIGIE or otherwise empowered to resolve disputes, counsel or other representative, party, or potential witness is relevant and necessary to litigation, CIGIE may disclose those records to the court, adjudicative body, individual or entity, counsel or other representative, party, or potential witness. CIGIE may make such a disclosure if one of the following parties is involved in the litigation or has an interest in the litigation:

1. CIGIE or any component thereof; or

2. Any employee or former employee of CIGIE in his or her official capacity; or

3. Any employee or former employee of CIGIE in his or her individual capacity when the DOJ has agreed to represent the employee; or

4. The United States, if CIGIE determines that litigation is likely to affect CIGIE or any of its components.

D. To the appropriate Federal, state, local, tribal, or foreign agency responsible for investigating, prosecuting, enforcing, or implementing a statute, rule, regulation, or order, if the information is relevant to a violation or potential violation of civil or criminal law or regulation within the jurisdiction of the receiving entity.

E. To officials and employees of any Federal agency to the extent the record contains information that is relevant to that agency's decision concerning the hiring, appointment, or retention of an employee; issuance of a security clearance; execution of a security or suitability investigation; or classification of a job.

F. To the National Archives and Records Administration (NARA) pursuant to records management inspections being conducted under the authority of 44 U.S.C. 2904 and 2906.

G. To contractors, grantees, consultants, volunteers, or other individuals performing or working on a contract, interagency agreement, service, grant, cooperative agreement, job, or other activity for CIGIE and who have a need to access the information in the performance of their duties or activities for CIGIE.

H. To appropriate agencies, entities, and persons when: CIGIE suspects or has confirmed that there has been a breach of the system of records; CIGIE has determined that as a result of the suspected or confirmed breach there is a risk of harm to individuals, CIGIE (including its information systems, programs, and operations), the Federal Government, or national security; and the disclosure made to such agencies, entities, and persons is reasonably necessary to assist in connection with CIGIE's efforts to respond to the suspected or confirmed breach or to prevent, minimize, or remedy such harm.

I. To another Federal agency or Federal entity, when: CIGIE determines that information from this system of records is reasonably necessary to assist the recipient agency or entity in responding to a suspected or confirmed breach; or preventing, minimizing, or remedying the risk of harm to individuals, the recipient agency or entity (including its information systems, programs, and operations), the Federal Government, or national security, resulting from a suspected or confirmed breach.

J. To Federal agencies and independent certified public accounting firms that have a need for the information in order to audit the financial statements of CIGIE.

K. To an organization or an individual in the public or private sector if there is reason to believe the recipient is or could become the target of a particular criminal activity or conspiracy, or to the extent the information is relevant to the protection or life or property.

L. To officials of CIGIE, as well as CIGIE members and their employees, who have need of the information in the performance of their duties.

M. To the Office of Personnel Management (OPM) in accordance with OPM's responsibility for evaluation and oversight of Federal personnel management.

N. To appropriate agencies, entities, and persons, to the extent necessary to respond to or refer correspondence.

O. To the news media and the public, unless it is determined that release of the specific information would constitute an unwarranted invasion of personal privacy.

P. To populate public-facing government websites to promote transparency of Coronavirus Funds and the Coronavirus Response, unless it is determined that release of the specific information would constitute an unwarranted invasion of personal privacy.

POLICIES AND PRACTICES FOR STORAGE OF RECORDS:

Information within this system of records is maintained in paper/or electronic form.

POLICIES AND PRACTICES FOR RETRIEVAL OF RECORDS:

These records are retrieved by the name or other programmatic identifier assigned to the individuals on whom they are maintained.

POLICIES AND PRACTICES FOR RETENTION AND DISPOSAL OF RECORDS:

The information is retained and disposed of in accordance with the General Records Schedule and/or the CIGIE records schedule applicable to the record and/or otherwise required by the Federal Records Act and implementing regulations.

ADMINISTRATIVE, TECHNICAL AND PHYSICAL SAFEGUARDS:

Paper records are located in locked file storage areas or in specified areas to which only authorized personnel have access. Electronic records are protected from unauthorized access through password identification procedures, limited access, firewalls, and other system-based protection methods.

RECORD ACCESS PROCEDURES:

Individuals seeking notification and access to any record contained in this system of records, or seeking to contest its content, may inquire in writing to the System Manager listed above. CIGIE has published a rule, entitled “Privacy Act Regulations,” to establish its procedures relating to access, maintenance, disclosure and amendment of records which are in a CIGIE system of records per the Privacy Act, promulgated at 5 CFR part 9801 (https://www.ecfr.gov/cgi-bin/text-idx?SID=c3344b4e456f682fe915c0e982f8ce94&mc=true&tpl=/ecfrbrowse/Title05/5cfr9801_main_02.tpl).

CONTESTING RECORD PROCEDURES:

See “Records Access Procedures” above.

NOTIFICATION PROCEDURES:

See “Records Access Procedures” above.

EXEMPTIONS PROMULGATED FOR THE SYSTEM:

None.

HISTORY:

N/A.

Dated: January 15, 2021.
Allison C. Lerner,
Chairperson of the Council of the Inspectors General on Integrity and Efficiency.

[FR Doc. 2021-01429 Filed 1-26-21; 8:45 am]

BILLING CODE P